DEPARTMENT OF AGRICULTURE

Rural Business-Cooperative Service

[Docket No. RBCS-BUSINESS-0025]

Notice of Request for Revisions of a Currently Approved Information Collection

AGENCY: Rural Business-Cooperative Service, Agriculture (USDA).

ACTION: Notice and request for comments.

SUMMARY: In accordance with the Paperwork Reduction Act of 1995, this notice announces the Rural Business-Cooperative Service's intention to request an extension for a currently approved information collection in support of the program Value-Added Producer Grants.

DATES: Comments on this notice must be received by October 12, 2021.

FOR FURTHER INFORMATION CONTACT: Robin M. Jones, Rural Development Innovation Center—Regulations Management Division, USDA, 1400 Independence Avenue SW, STOP 1522, Room 2445, South Building, Washington, DC 20250-1522. Telephone: (202) 772-1172. Email: robin.m.jones@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RBCS is submitting to OMB as extension to an existing collection with Agency adjustment.

Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent by the Federal eRulemaking Portal: Go to https://www.regulations.gov and, in the “Search” box, type in the Docket No. RBS-21-BUSINESS-0026. A link to the Notice will appear. You may submit a comment here by selecting the “Comment” button or you can access the “Docket” tab, select the “Notice,” and go to the “Browse & Comment on Documents” Tab. Here you may view comments that have been submitted as well as submit a comment. Information on using Regulations.gov, including instructions for accessing documents, submitting comments, and viewing the docket after the close of the comment period, is available through the site's “FAQ” link at the bottom. Comments on this information collection must be received by October 12, 2021.

Title: Value-Added Producer Grants.

OMB Number: 0570-0064.

Expiration Date of Approval: February 28, 2022.

Type of Request: Extension of a currently approved information collection.

Abstract: The purpose of this information collections to obtain information necessary to evaluate grant applications to determine the eligibility of the applicant and the project to determine which projects should be funded.

Estimate of Burden: Public reporting burden for this collection of information is estimated to average 39 hours per grant application.

Respondents: Independent producers, agriculture producer groups, farmer- or rancher-cooperatives, and majority controlled producer-based business ventures.

Estimated Number of Respondents: 470.

Estimated Number of Responses per Respondent: 11.

Estimated Number of Responses: 5,068.

Estimated Total Annual Burden on Respondents: 82,687 hours.

Copies of this information collection can be obtained from Robin M. Jones, Rural Development Innovation Center—Regulations Management Division, at (202) 772-1172. Email: robin.m.jones@usda.gov.

All responses to this notice will be summarized and included in the request for OMB approval. All comments will also become a matter of public record.

Mark Brodziski,
Administrator, Rural Business-Cooperative Service.

[FR Doc. 2021-17294 Filed 8-12-21; 8:45 am]

BILLING CODE 3410-XY-P